DEPARTMENT OF THE INTERIOR

Bureau of Land Management

[WY-060-1320-EL, WYW154432]

Notice of Availability (NOA) of the Maysdorf Coal Lease-By-Application Final Environmental Impact Statement (FEIS), Wyoming

AGENCY: Bureau of Land Management, Interior.

ACTION: Notice of availability (NOA) of a final environmental impact statement (FEIS) for coal lease by application (LBA) WYW154432 in the decertified Powder River Federal Coal Production Region, Wyoming.

SUMMARY: Under the provisions of the National Environmental Policy Act (NEPA), the Bureau of Land Management (BLM) announces the availability of the Maysdorf Coal Lease Application FEIS. The lease tract is being considered for sale as a result of a coal lease application received from Cordero Mining Company (CMC), operator of the adjacent Cordero Rojo Mine in Campbell County, Wyoming.

DATES: The FEIS will be available for a 30 calendar day review period effective the date that the Environmental Protection Agency (EPA) publishes their NOA of the FEIS in the Federal Register.

ADDRESSES: The FEIS is available on the internet at http://www.blm.gov/wy/st/en/info/NEPA/cfodocs/maysdorf.html.

Copies are available at the following BLM offices:

• BLM Wyoming State Office, 5353 Yellowstone Road, Cheyenne, Wyoming 82009.

• BLM Casper Field Office, 2987 Prospector Drive, Casper, Wyoming 82604.

Written comments may be submitted to: Bureau of Land Management, Casper Field Office, Attn: Nancy Doelger at the address listed above. The public may submit comments electronically to the attention of Nancy Doelger at casper_wymail@blm.gov or fax comments to (307) 261-7587.

FOR FURTHER INFORMATION CONTACT: Nancy Doelger or Mike Karbs at the BLM Casper Field Office address above or telephone (307) 361-7600.

SUPPLEMENTARY INFORMATION: The FEIS analyzes and discloses to the public direct, indirect, and cumulative environmental impacts of issuing a Federal coal lease in the Wyoming portion of the Powder River Basin. The BLM is considering issuing a coal lease as a result of a September 20, 2001, application submitted by CMC to lease Federal coal near the Cordero Rojo Mine, approximately 15 miles south-southeast of Gillette, Wyoming.

CMC, the operator of the mine, applied to lease the tract as a maintenance tract to extend the life of their existing mining operations under the provisions of the Leasing by Application regulations at 43 CFR 3425. This tract, case number WYW154432, is referred to as the Maysdorf Coal Tract.

The following lands in Campbell County, Wyoming are included in the tract as applied for:

T. 46 N., R. 71 W., 6th P.M., Wyoming

Section 4: Lots 5, 6, 7 (E½E½), 10 (E½E½), 11, 12;

Section 10: Lots 1, 2, 3 (N½, N½S½), 4 (N½, N½S½), 5 (N½, N½S½), 6 (N½, N½S½);

Section 11: Lots 1 through 8, 9 (N½, N½S½), 10 (N½, N½S½), 11 (N½, N½S½), 12 (N½, N½S½);

T. 47 N., R. 71 W, 6th P.M., Wyoming

Section 8: Lots 3 through 6, 11 through 13;

Section 21: Lots 1, 2, 3 (E½E½), 6 (E½E½), 7 through 10, 11 (E½E½), 14 (E½E½), 15, 16;

Section 28: Lots 1, 2, 3 (E½E½), 6 (E½E½), 7 through 10, 11 (E½E½), 14 (E½E½), 15, 16;

Section 33: Lots 1, 2, 3 (E½E½), 6 (E½E½), 7 through 10, 11 (E½E½), 14 (E½E½), 15, 16;

Containing 2,219.39 acres, more or less.

CMC estimates that approximately 234.8 million tons of in-place Federal coal are included in the tract.

The Office of Surface Mining Reclamation and Enforcement (OSM), the Land Quality Division of the Wyoming Department of Environmental Quality (WDEQ), and the Wyoming State Planning Office (WSPO) are cooperating agencies in the preparation of the FEIS. If the tract is leased as a maintenance tract, the new lease will be incorporated into the existing mining and reclamation plan for the adjacent mine. The Secretary of the Interior must approve the revision to the Mineral Leasing Act (MLA) mining plan before the Federal coal can be mined. If the tract is leased, OSM is the Federal agency that would be responsible for recommending approval, approval with conditions, or disapproval of the revised MLA mining plan to the Office of the Secretary of the Interior. WDEQ has entered into a cooperative agreement with the Secretary of the Interior to regulate surface coal mining operations on Federal and non-Federal lands within the State of Wyoming. WSPO coordinates planning within state agencies and facilitates collaboration among the agencies, the Federal Government, other states, the private sector, and the general public.

On February 1, 2005, the BLM published its Notice of Intent (NOI) to prepare an EIS for the Maysdorf coal lease application in the Federal Register. A notice announcing the availability of the Draft EIS was published in the Federal Register by the EPA on May 26, 2006. A 60-day comment period on the Draft EIS commenced with publication of the EPA's notice of availability and ended on July 25, 2006. The BLM published a Notice of Availability and Notice of Public Hearing in the Federal Register on May 26, 2006. The BLM's Federal Register notice announced the date and time of a public hearing, which was held on June 13, 2006, in Gillette, Wyoming. The purpose of the hearing was to solicit comments on the DEIS, fair market value, and the maximum economic recovery of the Federal coal.

During the review and comment period, the BLM received written comments from five entities, which are included, with agency responses, in an appendix to the FEIS. The FEIS analyzes leasing the above described tract as applied for as a separate Proposed Action. Under this alternative, a competitive sale would be held and a lease issued for Federal coal in the tract as applied for by Cordero. As part of the coal leasing process, BLM identified different tract configurations that would potentially avoid bypassing coal or prompt competitive interest in the unleased Federal coal in this area. The tract configurations that BLM has identified are described and analyzed as separate alternatives in the FEIS. Under these alternatives, a competitive sale would be held and a lease issued for Federal coal lands included in a tract modified by the BLM. The FEIS also analyzes the alternative of rejecting the application to lease Federal coal as the No Action Alternative. The Proposed Action and alternatives being considered in the FEIS are in conformance with the “Approved Resource Management Plan for Public Lands Administered by the Bureau of Land Management Buffalo Field Office” (April 2001). A Record of Decision (ROD) will be prepared after the close of the review period for the FEIS. Before including your address, phone number, e-mail address, or other personal identifying information in your comment, you should be aware that your entire comment—including your personal identifying information—may be made publicly available at any time. While you can ask us in your comment to withhold your personal identifying information from public review, we cannot guarantee that we will be able to do so. Comments received on the FEIS will be considered during preparation of the ROD.

Dated: February 27, 2007.
Alan Rabinoff,
Acting State Director.

[FR Doc. E7-7013 Filed 4-11-07; 8:45 am]

BILLING CODE 4310-22-P